ENVIRONMENTAL PROTECTION AGENCY

Proposed Settlement Agreement, Clean Air Act Citizen Suit

AGENCY: Environmental Protection Agency (EPA).

ACTION: Notice of proposed settlement; request for public comment.

SUMMARY: In accordance with section 113(g) of the Clean Air Act, as amended (the “Act”), 42 U.S.C. 7413(g), notice is hereby given of a proposed partial consent decree in Sierra Club v. Whitman, Civ. No. 1:00CV02206 (D.D.C.), a lawsuit filed by the Sierra Club and the Group Against Smog and Pollution (“GASP”) under section 304(a) of the Act, 42 U.S.C. 7604(a). The lawsuit concerns EPA's alleged failure to determine whether various identified areas that are designated as nonattainment for either the 1-hour ozone or PM10 NAAQS attained these NAAQS by their applicable attainment dates. An earlier proposed partial consent decree, addressing claims as to certain of these areas, was lodged with the United States District Court for the District of Columbia on January 12, 2001.

DATES: Written comments on the proposed partial consent decree must be received by August 24, 2001.

ADDRESSES: Written comments should be sent to Kendra Sagoff Air and Radiation Division (2344A), Office of General Counsel, U.S. Environmental Protection Agency, Ariel Rios Building—North, 1200 Pennsylvania Avenue, NW., Washington, D.C. 20004. Copies of the proposed partial consent decree are available from Samantha Hooks, (202) 564-5566.

SUPPLEMENTARY INFORMATION: The Clear Air Act requires EPA to determine within six months of the applicable attainment date whether areas that are designated as nonattainment for the ozone and PM10 national ambient air quality standards (“NAAQS”) attained those standards by those dates. See sections 181(b)(2) and 188(b)(2), 42 U.S.C. 7511(b)(2) and 7513(b)(2). If EPA determines that an area failed to attain the applicable NAAQA by the applicable attainment date, the Act provides that such area shall be reclassified by operation of law to the next higher classification. This second proposed partial consent decree provides that, with respect to certain additional areas identified in the complaint, EPA shall sign a notice of final rulemaking by specified dates, determining for each identified area either that it attained the relevant NAAQS by the applicable attainment date, or did not attain such NAAQS by such date. In the case where the determination is that the area did not timely attain the NAAQS, the proposed partial consent decree provides that EPA shall inform the public through notice in the Federal Register, and identify the appropriate reclassification for that area in the notice of final rulemaking.

For the period of thirty (30) days following the date of publication of this notice, EPA will receive written comments relating to the proposed partial consent decree from persons who were not named as parties or intervenors to the litigation in question. EPA or the Department of Justice may withhold or withdraw consent to the proposed consent decree if the comments disclose facts or circumstances that indicate that such consent is inappropriate, improper, inadequate, or inconsistent with the requirements of the Act. Unless EPA or the Department of Justice determines, following the comment period, that consent is inappropriate, the final consent decree will then be executed by the parties.

Dated: July 17, 2001.
John T. Hannon,
Associate General Counsel, Air and Radiation Law Office.

[FR Doc. 01-18532 Filed 7-24-01; 8:45 am]

BILLING CODE 6560-50-M